DEPARTMENT OF LABOR

Employment and Training Administration

Workforce Investment Act (WIA)(Section 167) National Farmworker Jobs Program (NFJP)

Allocations

AGENCY: Employment and Training Administration (ETA), Labor.

ACTION: Notice: Announcement of Formula Allocations for the Program Year (PY) 2000 NFJP.

SUMMARY: Pursuant to Section 182(d) of the WIA, the ETA is publishing the PY 2000 allocations for the NFJP authorized under Section 167 of the WIA.

FOR FURTHER INFORMATION CONTACT: Ms. Alicia Fernandez-Mott, Chief, Division of Seasonal Farmworker Programs. Her e-mail address is <afernandez-mott@doleta.gov>. Her telephone number is (202) 219-5500, ext. 121. (This is not a toll-free number.)

EFFECTIVE DATE: May 25, 2000. Comments must be submitted on or before June 26, 2000.

SUPPLEMENTARY INFORMATION: On May 19, 1999, a Notice of the new formula for allocating funds available for the NFJP (formerly referred to as the Migrant and Seasonal Farmworker (MSFW) program) was published in the Federal Register at 64 FR 27390 (May 19, 1999). The Notice explains how the new formula achieves its purpose, which is to distribute funds geographically by State service area on the basis of each area's relative share of farmworkers who are eligible for enrollment in the NFJP. The new formula consists of a rational organization of multiple data sets selected to yield the relative share distribution of eligible farmworkers. The result is substantially more relevant to the purpose than the allotments determined by the prior formula. Because it is the best available allocation tool and to maintain consistency, the Department of Labor is using the new formula described in the May 19 Notice to allocate PY 2000 WIA section 167 funds. The rationale for the new allocation formula and underlying methodology on how the new formula realigns the NFJP allocations, is fully explained in the May 19 Notice. The Department of Labor invites comments on our decision to use this formula for allocating PY 2000 funds.

Implementing the new formula in PY 1999 gave rise to significant changes in relative funding levels. The magnitude of the realignment for some State service areas is substantial. This is attributable to the inherent weaknesses of the data sources used under the prior formula and also to the fact the sources had gradually become substantially date-stale. To provide for a smooth transition from the original distributions, to the distributions provided by the new formula, Part IV of the May 19, 1999 Notice provides a strategy for implementation of the new formula through four incremental “hold harmless” stages. The stages adjust the formula allocations by limiting the rate of reduction in relative funding levels to the four annual increments of 95 percent, 90 percent, 85 percent and 80 percent of the 1998 level—the last year under the old formula. Full implementation of the new (combined-data) formula is reached on the 5th year allocation. The May 19, 1999 Notice provides that for PY 2000, which is the second stage hold-harmless year, each State service area will receive no less than 90 percent of its PY 1998 allocation (64 FR 27390, 27399 § IV(2)). PY 2000 is the operating year that begins on July 1, 2000.

The Fiscal Year 2000 pre-recission appropriation for the MSFW programs under WIA Section 167 is $74,445,000. A portion of this amount is an addition to the Administration's budget request. This budget addition amount is designated in the Committee appropriation language for addressing two objectives. One objective applies to the state-by-state formula allocation of funds for the NFJP. The budget addition offsets the scheduled adjustment to those State service areas undergoing a reduction in funding, by financing the difference between their PY 1998 level and the PY 2000 hold-harmless adjusted level. The other is to provide additional funding to raise the discretionary support for the farmworker housing assistance grants from the 1998 level to a level of $3,000,000. The total budget addition amount is $ 3,428,000. The recission action on the appropriation for the WIA Section 167 is $250,000. All of the $250,000 recission amount is applied to reduce the budget addition. The final budget addition, after reduction for the recission amount, is $3,178,000.

In PY 2000, the base amount allocated under the formula is equal to the PY 1999 formula allocation amount of $67,596,408. The budget addition amount is applied to those state service areas that are allocated a declining relative share of funding under the second hold-harmless stage of the new formula. Had there been no recission action, the total cost of this offset would be $2,927,691. Application of the 7.293 percent budget recission, reduces the budget addition by $213,517 to the post-recission level of $2,714,174. The total amount allocated to the States for the NFJP is the base amount, plus the budget addition amount, less the applied recission amount, leaving a net total of $70,310,582. The effects of these steps for each State service area are shown in the last three columns of the “Allocation Table.”

Under 20 CFR 669.240(a), at least 94 percent of the funds appropriated must be allocated to the State service areas for the NFJP grants. The total amount ($70,310,582) allocated for PY 2000 is 94.446 percent, thus exceeding the minimum requirement. The remaining amount of the appropriation is available for the other WIA Section 167 activities for farmworkers, which include the post recission amount of $2,963,543 for the PY 2000 farmworker housing assistance grants.

Minimum Funding Provisions

Part V of the Federal Register Notice (See 64 FR 27390, 27400 § V (May 19, 1999) provides that a State service area allocated less than $60,000 could be combined with an adjoining State service area. For PY 2000, the Rhode Island area allocation of $2,875 will be combined with the Connecticut area allocation. The incumbent grantee will not be required to amend its PY 2000 operating plan due to this action.

PY 2000 Allocations

The final (far right-hand) column of the “Allocation Table” provides the allotments for the NFJP in PY 2000. Grantees will use these figures in preparing the PY 2000 NFJP grant plans.

Signed at Washington, DC, this 18th day of May, 2000.
Shirley M. Smith,
Administrator,, Office of Adult Services.

Allocation Table for Program Year 2000 National Farmworker Jobs Program
State | PY 1998 allotments | Formula allocation w/o hold harmless adjustment | Formula percentage share w/o hold harmless (in percent) | PY 2000 allocation with hold harmless adjustment | Cost to bring states to PY 1998 levels | Recission action (7.293) | PY 2000 allotments
Alabama | $791,835 | $437,632 | 0.67766 | $712,652 | $79,183 | $5,775 | $786,060
Arizona | 1,519,645 | 1,719,287 | 2.66226 | 1,646,953 |  | 0 | 1,646,953
Arkansas | 1,167,409 | 724,893 | 1.12247 | 1,050,668 | 116,741 | 8,514 | 1,158,895
California | 14,591,138 | 20,067,526 | 31.07392 | 16,077,073 |  | 0 | 16,077,073
Colorado | 805,523 | 992,449 | 1.53678 | 879,010 |  | 0 | 879,010
Connecticut | 206,024 | 303,689 | 0.47025 | 228,511 |  | 0 | 228,511
Delaware | 118,334 | 125,899 | 0.19495 | 125,899 |  | 0 | 125,899
Florida | 4,631,415 | 2,465,700 | 3.81806 | 4,168,274 | 463,141 | 33,777 | 4,597,638
Georgia | 1,711,615 | 876,499 | 1.35723 | 1,540,454 | 171,161 | 12,483 | 1,699,132
Idaho | 877,438 | 1,079,184 | 1.67108 | 957,349 |  | 0 | 957,349
Illinois | 1,425,808 | 1,424,912 | 2.20643 | 1,424,912 | 896 | 65 | 1,425,743
Indiana | 781,615 | 927,202 | 1.43574 | 850,271 |  | 0 | 850,271
Iowa | 1,314,394 | 1,078,955 | 1.67073 | 1,182,955 | 131,439 | 9,586 | 1,304,808
Kansas | 697,839 | 1,078,783 | 1.67046 | 777,719 |  | 0 | 777,719
Kentucky | 1,352,613 | 1,043,179 | 1.61533 | 1,217,352 | 135,261 | 9,865 | 1,342,748
Louisiana | 796,032 | 484,907 | 0.75086 | 716,429 | 79,603 | 5,805 | 790,227
Maine | 327,397 | 174,702 | 0.27052 | 294,657 | 32,740 | 2,388 | 325,009
Maryland | 306,291 | 363,789 | 0.56332 | 333,229 |  | 0 | 333,229
Massachusetts | 351,027 | 298,012 | 0.46146 | 315,924 | 35,103 | 2,560 | 348,467
Michigan | 878,641 | 944,430 | 1.46242 | 944,430 |  | 0 | 944,430
Minnesota | 1,274,775 | 879,095 | 1.36125 | 1,147,298 | 127,477 | 9,297 | 1,265,478
Mississippi | 1,449,044 | 571,321 | 0.88467 | 1,304,140 | 144,904 | 10,568 | 1,438,476
Missouri | 1,094,524 | 976,379 | 1.51189 | 985,072 | 109,452 | 7,982 | 1,086,542
Montana | 667,189 | 461,861 | 0.71518 | 600,470 | 66,719 | 4,866 | 662,323
Nebraska | 774,884 | 1,092,397 | 1.69154 | 855,772 |  | 0 | 855,772
Nevada | 200,795 | 159,091 | 0.24635 | 180,716 | 20,079 | 1,464 | 199,331
New Hampshire | 112,600 | 100,958 | 0.15633 | 101,340 | 11,260 | 821 | 111,779
New Jersey | 400,038 | 698,545 | 1.08168 | 451,763 |  | 0 | 451,763
New Mexico | 598,720 | 934,978 | 1.44778 | 667,952 |  | 0 | 667,952
New York | 1,850,667 | 1,088,774 | 1.68593 | 1,665,600 | 185,067 | 13,497 | 1,837,170
North Carolina | 3,006,003 | 1,897,104 | 2.93760 | 2,705,403 | 300,600 | 21,923 | 2,984,080
North Dakota | 468,362 | 609,496 | 0.94379 | 513,493 |  | 0 | 513,493
Ohio | 904,951 | 1,264,492 | 1.95803 | 998,582 |  | 0 | 998,582
Oklahoma | 608,145 | 1,276,891 | 1.97723 | 702,695 |  | 0 | 702,695
Oregon | 1,087,697 | 1,452,311 | 2.24886 | 1,195,236 |  | 0 | 1,195,236
Pennsylvania | 1,221,441 | 1,549,985 | 2.40010 | 1,336,212 |  | 0 | 1,336,212
Rhode Island | 0 | 38,832 | 0.06013 | 2,875 |  | 0 | 2,875
South Carolina | 1,080,106 | 391,046 | 0.60552 | 972,095 | 108,011 | 7,877 | 1,072,229
South Dakota | 692,869 | 456,831 | 0.70739 | 623,582 | 69,287 | 5,053 | 687,816
Tennessee | 957,799 | 720,217 | 1.11523 | 862,019 | 95,780 | 6,985 | 950,814
Texas | 5,979,800 | 6,697,752 | 10.37126 | 6,475,747 |  | 0 | 6,475,747
Utah | 245,354 | 288,106 | 0.44612 | 266,687 |  | 0 | 266,687
Vermont | 213,134 | 105,217 | 0.16293 | 191,821 | 21,313 | 1,554 | 211,580
Virginia | 1,036,441 | 708,789 | 1.09754 | 932,797 | 103,644 | 7,559 | 1,028,882
Washington | 1,705,576 | 2,262,216 | 3.50297 | 1,873,085 |  | 0 | 1,873,085
West Virginia | 219,325 | 100,275 | 0.15527 | 197,393 | 21,932 | 1,600 | 217,725
Wisconsin | 1,229,201 | 953,157 | 1.47593 | 1,106,281 | 122,920 | 8,965 | 1,220,236
Wyoming | 201,911 | 232,207 | 0.35956 | 219,105 |  | 0 | 219,105
Total Center United States | 63,933,384 | 64,579,952 | 100.00 | 64,579,952 | 2,753,713 | 200,828 | 67,132,836
Conterminous United States | 63,933,384 | 64,579,952 | 95.53755
Hawaii | 251,607 | 204,254 | 4.16028 | 204,254 | 47,353 | 3,453 | 248,154
Puerto Rico | 2,938,827 | 2,812,202 | .30217 | 2,812,202 | 126,625 | 9,235 | 2,929,592
Subtot. (HI+PR) | 3,190,434 | 3,016,456 | 4.46 | 3,016,456 | 173,978 | 12,688 | 3,177,746
Total United States | 67,123,818 | 67,596,408 | 100.00 | 67,596,408 | 2,927,691 | 213,517 | 70,310,582

[FR Doc. 00-13154 Filed 5-24-00; 8:45 am]

BILLING CODE 4510-30-P